DEPARTMENT OF LABOR

Office of the Secretary

[SECRETARY'S ORDER 6-2001]

Establishment of the Office of the 21st Century Workforce and Delegation of Authority and Assignment of Responsibility to Its Director and Others

1. Purpose. This Order establishes the Office of the 21st Century Workforce, which shall serve as a focal point for the identification and study of issues relating to the workforce of the United States, for the gathering and dissemination of information relating to such issues, and for the development of strategies for effectively addressing such issues; delegates authority and assigns responsibility to its Director; and directs that all components of the Department of Labor (DOL) have the responsibility to work cooperatively with the Office of the 21st Century Workforce to ensure that their missions efficiently and effectively address the needs and concerns of the workforce.

2. Authority. This Order is issued pursuant to 5 U.S.C. 301, and Executive Order 13218, “21st Century Workforce Initiative” (EO 13218) (June 20, 2001).

3. Background. The Office of the 21st Century Workforce has responsibility, under EO 13218, to gather and disseminate information relating to workforce issues. Among the issues to be addressed by the Office of the 21st Century Workforce are the identification of the ways in which DOL may: streamline and update the information and services made available to the workforce by the Department; eliminate duplicative or overlapping rules and regulations; and identify statutory and regulatory barriers to assisting the workforce in successfully adapting to the challenges of the 21st Century.

EO 13218 established the President's Council of the 21st Century Workforce (Council), and designates the Secretary of Labor as the chairperson of the Council, and as an ex officio member representing the views of the Federal Government. The membership of the Council will include individuals who represent the views of business and labor organizations, Federal, State and local governments, academicians and educators, and such other associations and entities as the President determines are appropriate. The Council is to provide information and advice to the President through the Secretary of Labor, the Office of the 21st Century Workforce, and other appropriate Federal officials relating to issues affecting the 21st Century workforce.

DOL, under EO 13218, is responsible for making available appropriate funding and administrative support to assist the Council in carrying out the functions prescribed under EO 13218, including “necessary office space, equipment, supplies, staff and services” and, to the extent permitted by law, providing the Council with such information as it may need for purposes of carrying out its functions. Under EO 13218, the Secretary of Labor shall perform the functions of the President under the Federal Advisory Committee Act (5 U.S.C. App.), as amended, except that of reporting to the Congress, with respect to the Council, in accordance with the guidelines and procedures established by the Administrator of General Services.

4. Delegation of Authority and Assignment of Responsibility.

a. The Director of the Office of the 21st Century Workforce is delegated authority and assigned responsibility for:

(1) Identifying and studying issues relating to the workforce of the United States and developing strategies for effectively addressing such issues;

(2) Gathering and disseminating information relating to workforce issues by conducting summits, conferences, field hearings, meetings, and other appropriate forums designed to encourage the participation of organizations and individuals interested in such issues, including business and labor organizations, academicians, employers, employees, and public officials at the local, State and Federal levels;

(3) Advising and assisting the Secretary of Labor by identifying ways in which the Department of Labor may: streamline and update the information and services made available to the workforce by the Department; eliminate duplicative or overlapping rules and regulations; and identify statutory and regulatory barriers to assist the workforce in successfully adapting to the challenges of the 21st Century; and

(4) Promoting coordination among DOL agencies with the President's Council of the 21st Century Workforce.

b. The Assistant Secretary for Administration and Management is delegated authority and assigned responsibility to assure that any transfer of resources affecting this Order is fully consistent with the budget policies of the Department and that consultation and negotiation, as appropriate, with representatives of any employees affected by this exchange of responsibilities is conducted. The Assistant Secretary for Administration and Management is also responsible for providing or assuring that appropriate administrative and management support is furnished, as required, for the efficient and effective operation of these programs.

c. The Solicitor of Labor is delegated authority and assigned responsibility for providing legal advice and counsel to the Office of the 21st Century Workforce and other DOL agencies on all matters arising in the administration of this Order.

d. DOL Agency Heads are responsible for coordinating with the Office of the 21st Century Workforce on policies and activities which may relate to the purposes or responsibilities of the Office of the 21st Century Workforce. This coordination shall include such actions as:

(1) Assisting the Office of the 21st Century Workforce in identifying and studying issues relating to the workforce of the United States, in gathering and disseminating information relating to such issues, and in developing strategies for effectively addressing such issues;

(2) Providing the Office of the 21st Century Workforce with information relating to workforce issues necessary for conducting summits, conferences, field hearings, meetings, and other appropriate forums designed to encourage the participation of organizations and individuals interested in such issues, including business and labor organizations, academicians, employers, employees, and public officials at the local, State and Federal levels;

(3) Assisting the Office of the 21st Century Workforce in identifying ways in which the DOL may streamline and update the information and services made available to the workforce by the DOL, eliminate duplicative or overlapping rules and regulations, and identify statutory and regulatory barriers to assisting the workforce in successfully adapting to the challenges of the 21st Century; and

(4) Coordinating with the Office of the 21st Century Workforce on matters or programs related to such additional issues relating to the workforce and affecting the duties of the President's Council of the 21st Century Workforce as may arise.

5. Reservation of Authority and Responsibility.

a. The submission of reports and recommendations to the President and the Congress concerning the administration of statutory or administrative provisions is reserved to the Secretary.

b. This Secretary's Order does not affect the authorities or responsibilities of the Office of Inspector General under the Inspector General Act of 1978, as amended, or under Secretary's Order 2-90 (January 31, 1990).

c. This Order does not affect the authorities and responsibilities assigned by any other Secretary's Order.

6. Effective Date. This Order is effective immediately.

Dated: September 25, 2001.
Elaine L. Chao,
Secretary of Labor.

[FR Doc. 01-24457 Filed 9-28-01; 8:45 am]

BILLING CODE 4510-23-P